DEPARTMENT OF AGRICULTURE

Forest Service

Rim Lakes Forest Restoration Project; Apache-Sitgreavese National Forest, Black Mesa Ranger District, Coconino County, AZ

AGENCY: Forest Service, USDA.

ACTION: Notice of intent to prepare an environmental impact statement.

SUMMARY: The U.S. Forest Service (FS) will prepare an environmental impact statement (EIS) on a proposed action to conduct selective cutting and prescribed burn in forest across approximately 33,010 acres of National Forest System lands. The project intends to conserve and restore the Rim Lakes Project Area to make—over time—the forest ecosystem more sustainable and resilient to natural disturbances such as drought and climatic variability, insects, disease, fire, and wind.

The purpose of the project is to restore forest health, move forests toward an uneven-aged forest structure with all age classes represented, and restore frequent, periodic surface fire as an ecological process, as well as reduce the risk of a stand-replacing fire. The project will also improve hydrologic function, improve wildlife habitat—in particular for Northern goshawk and Mexican spotted owl—and improve scenic quality, as well as move the project area towards forest plan old growth management allocation goals.

In order to meet the purpose, this project includes a site-specific, forest plan amendment to the Apache-Sitgreaves Land and Resource Management Plan. This amendment clarifies guidelines to assure the proposed action can meet its restoration objectives, and to assure consistency with the forest plan. Information about the project can be found at http://www.fs.usda.gov/projects/asnf/landmanagement/projects.

DATES: Comments concerning the scope of the analysis must be received by April 30, 2012. The draft environmental impact statement is expected to be available in July 2012 and the final environmental impact statement is expected in October 2012, followed by a 30-day objection period pursuant to 36 CFR part 218 subpart A.

ADDRESSES: Send written comments to Dee Hines, District Ranger, Black Mesa Ranger District, P.O. Box 968, Overgaard, AZ 85933. Comments may also be sent via email to comments-southwestern-apache-sitgreaves-black-mesa@fs.fed.us, or via facsimile to (520) 535-5972.

FOR FURTHER INFORMATION CONTACT: Sandy Hurlocker, project team leader. Phone: (505) 660-8715.

Individuals who use telecommunication devices for the deaf (TDD) may call the Federal Information Relay Service (FIRS) at 1-800-877-8339 between 8 a.m. and 8 p.m., Eastern Time, Monday through Friday.

SUPPLEMENTARY INFORMATION: This project is being authorized under the Healthy Forest Restoration Act (HFRA) of 2003, following regulations at 36 CFR part 218. To date, analysis for this proposed action was documented in an environmental assessment that underwent an objection period in September 2011. After reviewing objections, the Apache-Sitgreaves National Forest Supervisor elected to document the analsysis in an environmental impact statement (EIS). The Forest Supervisor also elected to include an amendment to the forest plan as part of the proposed action in order to achieve project restoration objectives and to assure consistency with the Apache-Sitgreaves Land and Resource Management Plan (forest plan).

Purpose and Need for Action

The underlying purpose and need for the project has been determined by comparing the desired conditions to the existing conditions within the planning area. Desired conditions relevant to this project relate to forest health and ecosystem function and resiliency, as defined in the forest plan.

Currently, forested lands in the project area have departed from the structures and processes that historically kept them in a healthy, resilient condition. For example, 97 percent of the forested lands reflect a high stand density that makes these forests susceptible to insects and disease. Forests are also at risk of uncharacteristicly high-severity wild fires, which can lead to loss of entire stands during one fire event. About 67 precent of the project area has potential for either active crown fire or passive crown fire because of the amount of ladder fuels and the continuous and interlocking tree crowns. As demostrated by recent large fires in the lands adjacent to the project area (most recently the 2011 Wallow Fire), a crown fire would alter ecosystem functions, destroy much of the existing wildlife habitat, create sediment problems to the watersheds and decrease the desirablity of the area for recreation.

Desired condtions call for uneven aged forests across the project area that exhibit a variety of forest densities, spatial arrangements, age/structure conditions, and interspaces between groups.

The need for change derived from the difference between the existing condition and the desired condition, summarized as follows:

• Move stand densities toward desired conditions that promote forest health, large tree growth, and increased herbacious understory species and composition.

• Reduce the risk of a stand-replacing crown fire by reducing stand densities, reducing canopy bulk density/continuity, increasing crown heights, and creating more stand openness.

• Move goshawk habitat types towards desired conditions, for example, variable tree group sizes, age classes, and densities, as well as variable sized interspaces between groups.

• Move Mexican spotted owl habitat types towards the desired condition of stand density and forest structure consistent with the forest plan and Mexican spotted owl recovery plan.

• Reduce the basal area on most of the forest to reduce bark beetle hazard, and selectively reduce the level of dwarf mistletoe infection.

• Be consistent with the 1996 amendment forest plan amendment with respect to old growth management.

• Amend the Apache-Sitgreaves Land and Resource Management Plan in order to achieve project restoration objectives and to assure consistency with the Apache-Sitgreaves Land and Resource Management Plan (forest plan).

Proposed Action

In response to the purpose and need, the forest proposes the following actions during the next 10 years or until objectives are met.

• Selectively cut trees and broadcast burn after treatment on approximately 23,615 acres: In ponderosa pine and pine-oak, maintenance burns would occur. In dry mixed conifer, no re-entry maintenance burns would occur as part of this proposal.

• Broadcast burn without selectively cutting trees on approximately 9,339 acres: In ponderosa pine and pine-oak, maintenance burns would occur. In dry mixed conifer, no re-entry maintenance burns would occur as part of this proposal.

• Selectively cut trees with no follow up broadcast burn on approximately 56 acres.

• Open approximately 185 miles of existing closed roads to be used for treatment activity. Close roads when treatments are finished and rehabilitate as needed.

• Construct 2.6 miles of temporary road for haul access and obliterate after use (seven short segments approximately one-quarter to one-third of a mile each).

• Allocate approximately 6,900 acres of forest to be managed for old-growth characteristics.

• Amend the Apache-Sitgreaves Land and Resource Management Plan pages 56 and 57, to add clarifying language to (1) describe desired conditions for the project area managed for Northern goshawk, (2) express relative amounts of forest cover, as well as the distribution of that cover, including the interspaces between tree groups, (3) define the relationship between the interspaces and natural openings, such as meadows, and (4) clarify that canopy closure is measured at the tree group scale within Vegetation Structural Stages (VSS) 4, 5, and 6.

Possible Alternatives

In addition to the Proposed Action, an alternative was analyzed in the environmental assessment that limited the selective cutting of trees to less than 16 inches in diameter (at breast height). Otherwise the alternative included the same mechanical equipment and prescribed burning to accomplish the treatments using the methods described in the proposed action. Because this alternative would result in even-aged management, it would not meet forest plan direction for uneven-aged management; therefore if selected it would require a forest plan amendment to allow for even-age management (forest plan, page 54). This alternative will be carried into the environmental impact statement.

Responsible Official

The responsible official is the Forest Supervisor, Apache-Sitgreaves National Forest.

Nature of Decision To Make

Given the purpose and need of the project, the Forest Supervisor will review the proposed action, other alternatives, and the environmental consequences in order to make the following decisions: (1) Whether to select the proposed action or an alternative; (2) the location, design, and scheduling of the proposed thinning, burning, and road maintenance; (3) mitigation measures and monitoring requirements; and (4) the significance of the proposed forest plan amendments.

Preliminary Issues

During development of the environmental assessment, comments received during scoping were examined for issues, or unresolved conflicts directly or indirectly caused by implementing the proposed action. Issues serve to highlight effects or unintended consequences that may occur from the proposed action and alternatives. The Forest Service identified the following issue:

Issue 1: Thinning and burning activities may cause unforeseen mortality among larger-size classes of “leave” trees. Removal of trees larger than 16 inches in diameter when combined with potential mortality, may place post-treatment large tree densities below target densities. This may negatively affect old growth quality and quantity and wildlife habitat quality, quantity and populations. The indicators used to evaluate this issue are: Total number of trees 16 inches and greater (pre- and post-treatment), and pre- and post-treatment three-level analysis of habitat structure for Mexican spotted owl, northern goshawk, and old growth and vegetation structural stage (VSS) for northern goshawk.

Scoping Process

This notice of intent initiates the scoping process, which guides the development of the environmental impact statement. An open house is scheduled for April 11, 2012, from 3 to 6 p.m., in the Frontier Room of the Navajo County Public Health Building, 600 North 9th Place in Show Low, Arizona. Because this project has undergone considerable public review during development of the environmental assessment, the responsible official is especially interested in comments regarding the new element of the proposed action: the site-specific forest plan amendment.

It is important that reviewers provide their comments at such times and in such manner that they are useful to the agency's preparation of the environmental impact statement. Therefore, comments should be provided prior to the close of the comment period and should clearly articulate the reviewer's concerns and contentions.

The proposed Rim Lakes Forest Restoration Project is subject to the HFRA pre-decisional objection process pursuant to 36 CFR part 218 Subpart A and is not subject to notice, comment and appeal procedures under 36 CFR part 215. The 36 CFR 218 pre-decisional objection process requires a 30-day notice and objection period for the final environmental impact statement before a decision can be made by the responsible official. Only those who commented during scoping and during the comment period for the draft environmental impact statement may file objections (36 CFR 218.7).

Comments received in response to this solicitation, including names and addresses of those who comment, will be part of the public record for this proposed action. Comments submitted anonymously will be accepted and considered; however, anonymous comments will not provide the agency with the ability to provide the respondent with subsequent environmental documents.

Dated: March 23, 2012.
Christine Dawe,
Acting Deputy Forest Supervisor.

[FR Doc. 2012-7527 Filed 3-28-12; 8:45 am]

BILLING CODE 3410-11-P